DEPARTMENT OF TRANSPORTATION

Federal Aviation Administration

14 CFR Part 71

[Docket No. FAA-2005-22398; Airspace Docket No. 05-ASO-7]

RIN 2120-AA66

Proposed Establishment of High Altitude Area Navigation Routes (RNAV); South Central United States

AGENCY: Federal Aviation Administration (FAA), DOT.

ACTION: Notice of proposed rulemaking (NPRM).

SUMMARY: This action proposes to establish 16 high altitude area navigation (RNAV) routes in the South Central United States to support the High Altitude Redesign (HAR) program. The FAA is proposing this action to enhance safety and to improve the efficient use of the navigable airspace.

DATES: Comments must be received on or before November 14, 2005.

ADDRESSES: Send comments on this proposal to the Docket Management System, U.S. Department of Transportation, Room Plaza 401, 400 Seventh Street, SW., Washington, DC 20590-0001. You must identify FAA Docket No. FAA-2005-22398 and Airspace Docket No. 05-ASO-7, at the beginning of your comments. You may also submit comments through the Internet at http://dms.dot.gov.

FOR FURTHER INFORMATION CONTACT: Paul Gallant, Airspace and Rules, Office of System Operations Airspace and AIM, Federal Aviation Administration, 800 Independence Avenue, SW., Washington, DC 20591; telephone: (202) 267-8783.

SUPPLEMENTARY INFORMATION:

Comments Invited

Interested parties are invited to participate in this proposed rulemaking by submitting such written data, views, or arguments, as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2005-22398 and Airspace Docket No. 05-ASO-7) and be submitted in triplicate to the Docket Management System (see ADDRESSES section for address and phone number). You may also submit comments through the Internet at http://dms.dot.gov.

Commenters wishing the FAA to acknowledge receipt of their comments on this action must submit with those comments a self-addressed, stamped postcard on which the following statement is made: “Comments to FAA Docket No. FAA-2005-22398 and Airspace Docket No. 05-ASO-7.” The postcard will be date/time stamped and returned to the commenter.

All communications received on or before the specified closing date for comments will be considered before taking action on the proposed rule. The proposal contained in this action may be changed in light of comments received. All comments submitted will be available for examination in the public docket both before and after the closing date for comments. A report summarizing each substantive public contact with FAA personnel concerned with this rulemaking will be filed in the docket.

Availability of NPRM's

An electronic copy of this document may be downloaded through the Internet at http://dms.dot.gov. Recently published rulemaking documents can also be accessed through the FAA's Web page at http://www.faa.gov, or the Federal Register's web page at http://www.gpoaccess.gov/fr/index.html.

You may review the public docket containing the proposal, any comments received, and any final disposition in person in the Dockets Office (see ADDRESSES section for address and phone number) between 9 a.m. and 5 p.m., Monday through Friday, except Federal holidays. An informal docket may also be examined during normal business hours at the office of the Regional Air Traffic Division, Federal Aviation Administration, 1701 Columbia Avenue, College Park, GA 30337.

Persons interested in being placed on a mailing list for future NPRM's should contact the FAA's Office of Rulemaking, (202) 267-9677, for a copy of Advisory Circular No. 11-2A, Notice of Proposed Rulemaking Distribution System, which describes the application procedure.

Background

As part of the on-going National Airspace Redesign, the FAA implemented the HAR program. The HAR program's focus is to develop and implement fundamental improvements in navigation structure and operating methods to allow more flexible and efficient high altitude en route operations. In support of this program, the FAA is establishing new RNAV routes for use by suitably equipped aircraft. These new routes would allow users greater flexibility in route selection. In addition, users should achieve economic benefits derived from less restrictive routing options than are currently available in the jet route structure.

These high altitude RNAV routes will be identified by the letter prefix “Q,” followed by a number consisting of from one to three digits.

Related Rulemaking

On April 8, 2003, the FAA published the Designation of Class A, B, C, D, and E Airspace Areas; Air Traffic Service Routes, and Reporting Points rule in the Federal Register (68 FR 16943). The purpose of the rule was to facilitate the establishment of RNAV routes in the National Airspace System (NAS) for use by aircraft with advanced navigation system capabilities. This rule adopted certain amendments proposed in Notice No. 02-20, Area Navigation and Miscellaneous Amendments. The rule revised and adopted several definitions in FAA regulations, including Air Traffic Service Routes, to be in concert with ICAO definitions; and reorganized the structure of FAA regulations concerning the designation of Class A, B, C, D, and E airspace areas, airways, routes, and reporting points.

The Proposal

The FAA is proposing an amendment to Title 14 Code of Federal Regulations (14 CFR) part 71 to establish 16 RNAV routes in the South Central United States within the airspace assigned to the Memphis Air Route Traffic Control Center (ARTCC). These routes are proposed as part of the HAR program to enhance safety, and to facilitate the more flexible and efficient use of the navigable airspace for en route instrument flight rules (IFR) operations within the Memphis ARTCC's area of responsibility.

The FAA has determined that this proposed regulation only involves an established body of technical regulations for which frequent and routine amendments are necessary to keep them operationally current. Therefore, this proposed regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9N, Airspace Designations and Reporting Points, dated September 1, 2005 and effective September 15, 2005, is amended as follows:

Paragraph 2006—Area Navigation Routes.

* * * * *

Q-19 PLESS to BNA [New]
PLESS | Fix | (Lat. 37°48′35″ N., long. 88°57′48″ W.)
BNA | VORTAC | (Lat. 36°08′13″ N., long. 86°41′05″ W.)
* * * * * * *
Q-21 JONEZ to RZC [New]
JONEZ | Fix | (Lat. 34°30′57″ N., long. 95°27′34″ W.)
RZC | VORTAC | (Lat. 36°14′47″ N., long. 94°07′17″ W.)
* * * * * * *
Q-23 FSM to RZC [New]
FSM | VORTAC | (Lat. 35°23′18″ N., long. 94°16′18″ W.)
RZC | VORTAC | (Lat. 36°14′47″ N., long. 94°07′17″ W.)
* * * * * * *
Q-25 MEEOW to PXV [New]
MEEOW | Fix | (Lat. 34°19′05″ N., long. 93°31′25″ W.)
ARG | VORTAC | (Lat. 36°06′36″ N., long. 90°57′13″ W.)
WLSUN | WP | (Lat. 37°35′00″ N., long. 88°08′00″ W.)
PXV | VORTAC | (Lat. 37°55′42″ N., long. 87°45′45″ W.)
Q-26 ARG to ABROC [New]
ARG | VORTAC | (Lat. 36°06′36″ N., long. 90°57′13″ W.)
ABROC | Fix | (Lat. 34°37′05″ N., long. 87°26′07″ W.)
Q-27 FSM to ZALDA [New]
FSM | VORTAC | (Lat. 35°23′18″ N., long. 94°16′18″ W.)
ZALDA | WP | (Lat. 36°04′55″ N., long. 93°37′37″ W.)
Q-28 GRAZN to PXV [New]
GRAZN | WP | (Lat. 34°15′00″ N., long. 94°21′29″ W.)
PYRMD | WP | (Lat. 34°34′00″ N., long. 93°44′00″ W.)
HAKAT | WP | (Lat. 36°17′00″ N., long. 91°04′00″ W.)
ESTEE | WP | (Lat. 37°41′00″ N., long. 88°17′00″ W.)
PXV | VORTAC | (Lat. 37°55′42″ N., long. 87°45′45″ W.)
Q-29 HARES to PXV [New]
HARES | WP | (Lat. 33°00″00″ N., long. 91°44′00″ W.)
MEM | VORTAC | (Lat. 35°00′54″ N., long. 89°59′00″ W.)
SIDAE | WP | (Lat. 37°20′00″ N., long. 87°50′00″ W.)
PXV | VORTAC | (Lat. 37°55′42″ N., long. 87°45′45″ W.)
Q-30 SQS to VUZ [New]
SQS | VORTAC | (Lat. 33°27′50″ N., long. 90°16′38″ W.)
VUZ | VORTAC | (Lat. 33°40′13″ N., long. 86°53′59″ W.)
Q-31 DHART to PXV [New]
DHART | Fix | (Lat. 33°23′52″ N., long. 92°25′10″ W.)
TOROS | WP | (Lat. 33°40′00″ N., long. 92°10′00″ W.)
UJM | VOR/DME | (Lat. 34°34′30″ N., long. 90°40′28″ W.)
TIIDE | WP | (Lat. 37°28′00″ N., long. 87°59′00″ W.)
PXV | VORTAC | (Lat. 37°55′42″ N., long. 87°45′45″ W.)
Q-32 ELD to SWAPP [New]
ELD | VORTAC | (Lat. 33°15′22″ N., long. 92°44′38″ W.)
GAGLE | WP | (Lat. 34°08′00″ N., long. 90°17′00″ W.)
CRAMM | Fix | (Lat. 34°38′11″ N., long. 88°53′55″ W.)
BNA | VORTAC | (Lat. 36°08′13″ N., long. 86°41′05″ W.)
SWAPP | Fix | (Lat. 36°36′50″ N., long. 85°10′56″ W.)
Q-33 PROWL to DHART [New]
PROWL | WP | (Lat. 37°02′00″ N., long. 91°15′00″ W.)
LIT | VORTAC | (Lat. 34°40′40″ N., long. 92°10′50″ W.)
DHART | Fix | (Lat. 33°23′52″ N., long. 92°25′10″ W.)
Q-34 TXK to SWAPP [New]
TXK | VORTAC | (Lat. 33°30′50″ N., long. 94°04′24″ W.)
MATIE | Fix | (Lat. 34°05′42″ N., long. 92°33′02″ W.)
MEM | VORTAC | (Lat. 35°00′54″ N., long. 89°59′00″ W.)
SWAPP | Fix | (Lat. 36°36′50″ N., long. 85°10′56″ W.)
Q-36 RZC to SWAPP [New]
RZC | VORTAC | (Lat. 36°14′47″ N., long. 94°07′17″ W.)
TWITS | WP | (Lat. 36°08′32″ N., long. 90°54′48″ W.)
DEPEC | WP | (Lat. 36°06′00″ N., long. 87°31′00″ W.)
BNA | VORTAC | (Lat. 36°08′13″ N., long. 86°41′05″ W.)
SWAPP | Fix | (Lat. 36°36′50″ N., long. 86°10′56″ W.)
Q-38 ROKIT to BESOM [New]
ROKIT | Fix | (Lat. 30°29′50″ N., long. 94°30′50″ W.)
INCIN | WP | (Lat. 31°21′09″ N., long. 92°45′18″ W.)
LAREY | WP | (Lat. 32°00′12″ N., long. 91°22′22″ W.)
BESOM | Fix | (Lat. 33°35′11″ N., long. 87°39′23″ W.)
Q-40 AEX to MISLE [New]
AEX | VORTAC | (Lat. 31°15′24″ N., long. 92°30′04″ W.)
DOOMS | WP | (Lat. 31°53′08″ N., long. 91°09′56″ W.)
SALVA | WP | (Lat. 32°38′00″ N., long. 89°21′56″ W.)
MISLE | WP | (Lat. 33°24′00″ N., long. 87°38′00″ W.)

* * * * *

Issued in Washington, DC, on September 19, 2005.
Edith V. Parish,
Acting Manager, Airspace and Rules.

[FR Doc. 05-19205 Filed 9-26-05; 8:45 am]

BILLING CODE 4910-13-P